DEPARTMENT OF HEALTH AND HUMAN SERVICES

National Institutes of Health

Center for Scientific Review; Amended Notice of Meeting

Notice is hereby given of a change in the meeting of the Center for Scientific Review Special Emphasis Panel, February 2, 2009, 12 p.m. to February 2, 2009, 1 p.m., Mayflower Park Hotel, 405 Olive Way, Seattle, WA, 98101 which was published in the Federal Register on January 16, 2009, 74 FR 3064-3065.

The meeting will be held February 27, 2009, from 2 p.m. to 4 p.m. The meeting location remains the same. The meeting is closed to the public.

Dated: February 10, 2009.
Jennifer Spaeth,
Director, Office of Federal Advisory Committee Policy.

[FR Doc. E9-3304 Filed 2-17-09; 8:45 am]

BILLING CODE 4140-01-M